DEPARTMENT OF COMMERCE

Foreign-Trade Zones Board

[B-50-2015]

Foreign-Trade Zone 281—Miami, Florida; Application for Expansion (New Magnet Site) Under Alternative Site Framework

An application has been submitted to the Foreign-Trade Zones (FTZ) Board (the Board) by Miami-Dade County, grantee of Foreign-Trade Zone 281, requesting authority to expand its zone under the alternative site framework (ASF) adopted by the Board (15 CFR Sec. 400.2(c)) to include a new magnet site in Miami, Florida. The application was submitted pursuant to the Foreign-Trade Zones Act, as amended (19 U.S.C. 81a-81u), and the regulations of the Board (15 CFR part 400). It was formally docketed on August 4, 2015.

FTZ 281 was established by the Board under the alternative site framework on August 2, 2012 (Board Order 1844, 77 FR 47816, 8/10/2012). The zone currently has a service area that includes the northern half of Miami-Dade County and consists of the following sites (three magnet and thirty-one usage-driven): Site 1 (520 acres)—Dante B. Fascell Port of Miami, 1015 North America Way, Miami; Site 2 (423 acres, sunset 8/2/2022)—Flagler Logistics Hub, 6875 NW. 58th Street, Miami; Site 3 (419 acres, sunset 8/2/2017)—Flagler Station, 10505 NW. 112th Avenue, Miami; Site 4 (6 acres, sunset 10/31/2015)—Warehouse Division of World Terminal and Distributing Corporation, 2801 NW. 74th Avenue, Miami; Site 5 (8 acres, sunset 11/30/2015)—Duty Free Air and Ship Supply Co., 555 NE. 185th Street and 320 NE. 187th Street, Miami; Site 6 (0.29 acres, sunset 2/29/2016)—Milenium Supply, Inc., 9920 NW. 21st Street, Miami; Site 7 (4 acres, sunset 4/30/2016)—Tire Group International Inc., 7500 NW. 35th Terrace, Miami; Site 8 (16.52 acres, sunset 4/30/2016)—DHL Global Forwarding, Inc., 9350 NW. 108th Avenue, Miami; Site 9 (2.71 acres, sunset 5/31/2016)—Supreme International LLC, 4875 NW. 77th Avenue, Miami; Site 10 (1 acre, sunset 5/31/2016)—International Cruise Duty Free Inc., 3511 NW. 113th Court, Doral; Site 11 (1 acre, sunset 5/31/2016)—GFX Inc., 4810 NW. 74th Avenue, Miami; Site 12 (0.44 acres, sunset 6/30/2016)—Asimex Miami Forwarding, LLC, 8000 NW. 29th Street #118 and 8006 NW. 29th Street #119, Miami; Site 13 (18.07 acres, sunset 9/30/2016)—CEVA Freight LLC, 5601 NW. 72nd Avenue, Miami; Site 14 (3.91 acres, sunset 9/30/2016)—TVA Automotive Inc., 2180 NW. 89th Place, Doral; Site 15 (4 acres, sunset 9/30/2016)—Dufry America Services Inc., 10300 NW. 19th Street, Suite 114, Miami; Site 16 (4.98 acres, sunset 9/30/2016)—Precision Trading Corp., 15800 NW. 48th Avenue, Miami Gardens; Site 17 (4 acres, sunset 11/30/2016)—Interport Logistics LLC, 12950 NW. 25th Street, Miami; Site 18 (2.26 acres, sunset 11/30/2016)—CE North America LLC, 6950 NW. 77th Court, Miami; Site 19 (5.28 acres, sunset 12/31/2016)—Hellmann Worldwide Logistics Inc., 10450 Doral Boulevard, Doral; Site 20 (2.27 acres, sunset 1/31/2017)—Miami International Freight Solutions, LLC, 14100 NW. 60th Avenue, Miami Lakes; Site 21 (1.004 acres, sunset 4/30/2017)—TVA Automotive Inc., 3515 NW. 113 Court, Doral; Site 22 (0.5094 acres, sunset 5/31/2017)—Expert Log LLC, 10540 NW. 29 Terrace, Doral; Site 23 (7.34 acres, sunset 5/31/2017)—Schenker, Inc., 1800 NW. 133rd Avenue, Suite 100, Miami; Site 24 (1.19 acres, sunset 5/31/2017)—Everwell Parts, Inc., 10914 NW. 33rd Street, Suite 100, Miami; Site 25 (1.716 acres, sunset 10/31/2017)—Exporther Bonded Corporation (d/b/a EBC Duty Free), 2323 NW. 72nd Avenue, Miami; Site 26 (0.15 acres, 11/30/2017)—Marine Air Service Forwarding, 1970 NW. 129th Avenue, Unit 104, Miami; Site 27 (2.3 acres, sunset 11/30/2017)—Dependable Warehousing & Distribution, 2900 NW. 75th Street, Miami; Site 28 (13.12 acres, sunset 3/31/2018)—Perez Trading Company, 11400 NW. 32nd Avenue, Miami; Site 29 (3.05 acres, sunset 3/31/2018)—Perez Trading Company, 12300 NW. 32nd Avenue, Miami; Site 30 (2.16 acres, sunset 4/30/2018)—Neutralogistics, LLC, 8578 NW. 23rd Street, Miami; Site 32 (1.04 acres, sunset 4/30/2018)—Global Food Corp., 11450 NW. 122nd Street, Building A, Suite 400, Medley; Site 33 (1.828 acres, sunset 5/31/2018)—Floral Logistics of Miami, Inc., 3400 NW. 74th Avenue, Miami; Site 34 (7.68 acres, sunset 6/30/2018)—SDV USA Inc., 11250 NW. 122nd Street, Medley; and, Site 35 (0.204 acres, sunset 6/30/2018)—Miansai, Inc., 1800 N Miami Avenue, Miami.

The applicant is now requesting authority to expand its zone to include an additional magnet site: Proposed Site 31 (320 acres)—Beacon Lakes industrial park, 12200-12650 NW 25th Street, Miami. The proposed new site is adjacent to the Miami Customs and Border Protection port of entry.

In accordance with the Board's regulations, Camille Evans of the FTZ Staff is designated examiner to evaluate and analyze the facts and information presented in the application and case record and to report findings and recommendations to the Board.

Public comment is invited from interested parties. Submissions shall be addressed to the Board's Executive Secretary at the address below. The closing period for their receipt is October 9, 2015. Rebuttal comments in response to material submitted during the foregoing period may be submitted during the subsequent 15-day period to October 26, 2015.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: August 4, 2015.
Elizabeth Whiteman,
Acting Executive Secretary.

[FR Doc. 2015-19607 Filed 8-7-15; 8:45 am]

BILLING CODE 3510-DS-P